DEPARTMENT OF LABOR

Employment and Training Administration

[TA-W-63,067]

Heatcraft Refrigeration, a Subsidiary of Lennox International, Including On-Site Leased Workers From Spherion and Trillium Staffing, Danville, IL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on April 17, 2008, applicable to workers of Heatcraft Refrigeration, a subsidiary of Lennox International, including on-site leased workers from Spherion, Danville, Illinois. The notice was published in the Federal Register on May 2, 2008 (73 FR 24318).

At the request of the State agency, the Department reviewed the certification for workers of the subject firm. The workers are engaged in the production of commercial refrigeration and HVAC equipment.

New information shows that leased workers from Trillium Staffing were employed on-site at the Danville, Illinois location of Heatcraft Refrigeration, a subsidiary of Lennox International. The Department has determined that these workers were sufficiently under the control of the subject firm.

Based on these findings, the Department is amending this certification to include leased workers from Trillium Staffing working on-site at the Danville, Illinois location of the subject firm.

The intent of the Department's certification is to include all workers employed at Heatcraft Refrigeration, a subsidiary of Lennox International who were adversely affected by a shift in production of commercial refrigeration and HVAC equipment to Mexico.

The amended notice applicable to TA-W-63,067 is hereby issued as follows:

All workers of Heatcraft Refrigeration, a subsidiary of Lennox International, including on-site leased workers from Spherion and Trillium Staffing, Danville, Illinois, who became totally or partially separated from employment on or after March 25, 2007, through April 17, 2010, are eligible to apply for adjustment assistance under Section 223 of the Trade Act of 1974, and are also eligible to apply for alternative trade adjustment assistance under Section 246 of the Trade Act of 1974.

Signed at Washington, DC this 9th day of June 2008.
Elliott S. Kushner,
Certifying Officer, Division of Trade Adjustment Assistance.

[FR Doc. E8-13976 Filed 6-19-08; 8:45 am]

BILLING CODE 4510-FN-P